DEPARTMENT OF COMMERCE

Submission for OMB Review; Comment Request

The Department of Commerce will submit to the Office of Management and Budget (OMB) for clearance the following proposal for collection of information under the provisions of the Paperwork Reduction Act.

Agency: U.S. Census Bureau.

Title: American Community Survey Methods Panel Tests.

OMB Control Number: 0607-0936.

Form Number(s): ACS-1 and ACS-1(GQ).

Type of Request: Regular Submission.

Number of Respondents: 455,500 per year.

Average Hours per Response: 40 minutes.

Burden Hours: 266,168 per year.

Needs and Uses: The U.S. Census Bureau requests authorization from the Office of Management and Budget (OMB) for the American Community Survey (ACS) Methods Panel Tests.

An ongoing data collection effort with an annual sample of the magnitude of the ACS requires that the Census Bureau continue research, testing, and evaluations aimed at improving data quality, achieving survey cost efficiencies, reducing respondent burden, and improving ACS questionnaire content and related data collection materials. The ACS Methods Panel is a robust research program focused on enhancing the quality of the respondent experience, survey operations, and data.

From 2018 to 2021, the ACS Methods Panel program may include testing methods for increasing survey efficiencies, reducing survey cost, improving the respondent experience, increasing response rates, and improving data quality. At this time, plans are in place to propose several tests:

• Mail Materials Test that will explore ways to improve the respondent experience and address respondent concerns about the perceived intrusiveness of the ACS balanced against increasing self-response to the survey.

• Self-Response Mail Messaging Tests that research various aspects of the mail materials and contact strategy.

• Multilingual Testing that would explore ways to engage respondents with limited English proficiency during the self-response portion of data collection.

• Content Tests that will test new and/or revised content.

• Respondent Burden Questions Test that would incorporate questions about respondents' experience with the survey.

• Respondent Comment/Feedback Test which would add a comment field to make it easy for respondents to give feedback about the ACS.

• Administrative Data Use Test to assess the potential for supplementing or replacing survey content with administrative data.

• Group Quarters Test to assess the feasibility of making an internet self-response option available to non-institutional GQ residents.

Since the ACS Methods Panel is designed to address emerging issues, we may conduct additional testing as needed. Any additional testing would focus on methods for reducing data collection costs, improving data quality, revising content, or testing new questions that have an urgent need to be included on the ACS. The tests may be conducted on HUs, GQs, or both. As more details are developed for the additional tests, the Census Bureau will submit a non-substantive change request, (and Federal Register Notice, as necessary) documenting the change or revision.

The tests proposed allow the Census Bureau to continue to examine operational issues, research the data quality, collect cost information and make recommendations for improvements to this annual data collection.

Affected Public: Individuals or households.

Frequency: Multiple one-time tests over a 3-year period.

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-11437 Filed 5-25-18; 8:45 am]

BILLING CODE 3510-07-P